DEPARTMENT OF THE INTERIOR

Geological Survey

[DOI-2023-0021; 243G0804MD GGHDFA3540 GF0200000 GX24FA35PR00000]

Privacy Act of 1974; System of Records

AGENCY: Geological Survey, Interior.

ACTION: Rescindment of system of records notices.

SUMMARY: The Department of the Interior (DOI) is issuing a public notice of its intent to rescind three United States Geological Survey (USGS) Privacy Act systems of records from its existing inventory: INTERIOR/USGS-13, Manuscript Processing, INTERIOR/USGS-15, Earth Science Information Customer Records, and INTERIOR/USGS-20, Photo File System, as the associated records are no longer subject to the provisions of the Privacy Act.

DATES: These changes take effect on January 12, 2024.

ADDRESSES: You may send comments identified by docket number [DOI-2023-0021] by any of the following methods:

• Federal eRulemaking Portal: https://www.regulations.gov. Follow the instructions for sending comments.

• Email: DOI_Privacy@ios.doi.gov. Include docket number [DOI-2023-0021] in the subject line of the message.

• U.S. Mail or Hand-Delivery: Teri Barnett, Departmental Privacy Officer, U.S. Department of the Interior, 1849 C Street NW, Room 7112, Washington, DC 20240.

Instructions: All submissions received must include the agency name and docket number [DOI-2023-0021]. All comments received will be posted without change to https://www.regulations.gov, including any personal information provided.

Docket: For access to the docket to read background documents or comments received, go to https://www.regulations.gov.

You should be aware your entire comment including your personally identifiable information, such as your address, phone number, email address, or any other personal information in your comment, may be made publicly available at any time. While you may request to withhold your personally identifiable information from public review, we cannot guarantee we will be able to do so.

FOR FURTHER INFORMATION CONTACT: Cozenja Berry, Associate Privacy Officer, Office of the Associate Chief Information Officer, U.S. Geological Survey, 12201 Sunrise Valley Drive, Mail Stop 159, Reston, VA 20192, privacy@usgs.gov or (571) 455-2415.

SUPPLEMENTARY INFORMATION: Pursuant to the provisions of the Privacy Act of 1974, as amended, 5 U.S.C. 552a, the USGS is rescinding three system of records notices (SORNs) from its inventory. During a review of USGS system of records notices, it was determined the records associated with INTERIOR/USGS-13, Manuscript Processing, INTERIOR/USGS-15, Earth Science Information Customer Records, and INTERIOR/USGS-20, Photo File System, are no longer subject to the provisions of the Privacy Act. Rescindment of these notices will ensure statutory compliance with the Privacy Act, and Office of Management and Budget Circular A-108, Federal Agency Responsibilities for Review, Reporting, and Publication under the Privacy Act. A description of the affected records and the justification for rescindment of each SORN follows.

The records associated with INTERIOR/USGS-13, Manuscript Processing, consist of scientific information products (IP), such as scientific reports, articles, abstracts, data releases, presentations, visual aids, and other deliverables that are subject to USGS Fundamental Science Practices. The IP records are maintained by the Office of Science Quality and Integrity (OSQI) in the Information Product Data System (IPDS), an internal USGS workflow application. The records in IPDS are not stored or retrieved by use of personal identifiers. Rather, records are indexed and retrieved by their product number which is a unique identifier for the publication record. Accordingly, the records associated with INTERIOR/USGS-13 no longer meet the statutory definition of a system of records under the Privacy Act.

The records associated with INTERIOR/USGS-15, Earth Science Information Customer Records, are now covered by INTERIOR/USGS-28, USGS Store Customer Records, 88 FR 55714 (August 16, 2023). These records, previously maintained by the Earth Science Information Office (ESIO), consisted of customer account and inquiry files related to the sale and distribution of satellite imagery prints produced by the USGS. The ESIO records were decommissioned and migrated to the USGS Store (Science Information Delivery Branch, Office of the Associate Chief Information Officer). Accordingly, this rescindment eliminates an unnecessary duplicate SORN from the DOI inventory.

The records associated with INTERIOR/USGS-20, Photo File System, have been decommissioned and are no longer maintained by the USGS. The records, which consisted of non-digital photographs of USGS senior leaders, have been transferred for historical preservation or destroyed in accordance with USGS General Records Disposition Schedule N1-57-03-01, Items 1101-01b and 1101-01c, as approved by the National Archives and Records Administration (NARA). Accordingly, this SORN is hereby rescinded as it is no longer needed.

The USGS records are maintained in accordance with Federal records laws and are handled as required by the Privacy Act and the Freedom of Information Act (FOIA) to ensure the greatest protection of personal privacy. Rescission of these SORNs will have no adverse impact on individual privacy as they are no longer in use or no longer needed due to being superseded by other published SORNs. This rescindment will also promote the overall streamlining and management of DOI Privacy Act systems of records.

SYSTEM NAME AND NUMBER:

1. INTERIOR/USGS-13, Manuscript Processing.

2. INTERIOR/USGS-15, Earth Science Information Customer Records.

3. INTERIOR/USGS-20, Photo File System.

HISTORY:

1. INTERIOR/USGS-13, Manuscript Processing, 63 FR 60374 (November 9, 1998); modification published at 74 FR 23430 (May 19, 2009).

2. INTERIOR/USGS-15, Earth Science Information Customer Records, 55 FR 36907 (September 7, 1990); modification published at 74 FR 23430 (May 19, 2009).

3. INTERIOR/USGS-20, Photo File System, 63 FR 60377 (November 9, 1998); modification published at 74 FR 23430 (May 19, 2009).

Teri Barnett,
Departmental Privacy Officer, Department of the Interior.

[FR Doc. 2024-00561 Filed 1-11-24; 8:45 am]

BILLING CODE 4338-11-P